INTERNATIONAL TRADE COMMISSION

[Investigation Nos. 731-TA-1140-1142 (Second Review)]

Uncovered Innerspring Units From China, South Africa, and Vietnam;

Determinations

On the basis of the record ¹ developed in the subject five-year reviews, the United States International Trade Commission (“Commission”) determines, pursuant to the Tariff Act of 1930 (“the Act”), that revocation of the antidumping duty orders on uncovered innerspring units from China, South Africa, and Vietnam would be likely to lead to continuation or recurrence of material injury to an industry in the United States within a reasonably foreseeable time.²

¹ The record is defined in sec. 207.2(f) of the Commission's Rules of Practice and Procedure (19 CFR 207.2(f)).

² Commissioner Kearns did not participate in these reviews.

Background

The Commission, pursuant to section 751(c) of the Act (19 U.S.C. 1675(c)), instituted these reviews on March 1, 2019 (84 FR 7126) and determined on June 4, 2019 that it would conduct expedited reviews (84 FR 40090, August 13, 2019).

The Commission made these determinations pursuant to section 751(c) of the Act (19 U.S.C. 1675(c)). It completed and filed its determinations in these reviews on September 27, 2019. The views of the Commission are contained in USITC Publication 4974 (September 2019), entitled Uncovered Innerspring Units from China, South Africa, and Vietnam: Investigation Nos. 731-TA-1140-1142 (Second Review).

By order of the Commission.
Issued: September 27, 2019.
Lisa Barton,
Secretary to the Commission.

[FR Doc. 2019-21486 Filed 10-2-19; 8:45 am]

BILLING CODE 7020-02-P